DEPARTMENT OF COMMERCE

International Trade Administration

[A-570-815]

Sulfanilic Acid From the People's Republic of China: Rescission of Antidumping Duty Administrative Review

AGENCY: Import Administration, International Trade Administration, U.S. Department of Commerce.

SUMMARY: In accordance with 19 CFR 351.213(b)(1), the Department received a timely request from petitioner Nation Ford Chemical Company (NFC), to conduct an administrative review of the sales of Zhenxing Chemical Industry Company (also known as Baoding Mancheng Zhenxing Chemical Plant) and Xinyu Chemical Plant (formerly known as Yude Chemical Industry Company). On September 25, 2002, the Department initiated an administrative review of the antidumping duty order on sulfanilic acid from the People's Republic of China (PRC) for the period of review (POR) of August 1, 2001, to July 31, 2002. Because the interested party has withdrawn its request for review within 90 days of the notice of initiation's publication date, the Department is rescinding this review in accordance with 19 CFR 351.213(d)(1).

EFFECTIVE DATE: November 4, 2002.

FOR FURTHER INFORMATION CONTACT: Sean Carey or Holly Hawkins at Enforcement Group III, Office 7, Import Administration, International Trade Administration, U.S. Department of Commerce, 14th Street and Constitution Avenue, NW., Washington, DC 20230; telephone: (202) 482-3964 or (202) 482-0414, respectively.

SUPPLEMENTARY INFORMATION:

Applicable Statute and Regulations

All citations are to the provisions of the Tariff Act of 1930, as amended (“the Act”). In addition, unless otherwise indicated, all citations to the Department's regulations are to the regulations codified at 19 CFR part 351 (2002).

Background

On August 29, 2002, the Department received a timely request from petitioner NFC that we conduct an administrative review of the sales of Zhenxing Chemical Industry Company and Xinyu Chemical Plant. On September 25, 2002, the Department published a notice of initiation of the administrative review of the antidumping duty order on sulfanilic acid from the PRC for the period of review (POR) August 1, 2001, to July 31, 2002, in accordance with 19 CFR 351.221(c)(1)(i). See “Initiation of Antidumping and Countervailing Duty Administrative Reviews,” 67 FR 60210 (September 25, 2002). On October 11, 2002, NFC, the only party requesting this administrative review, withdrew its request for review.

Rescission of Review

Pursuant to our regulations, the Department will rescind an administrative review, “if a party that requested the review withdraws the request within 90 days of the date of publication of notice of initiation of the requested review.” See 19 CFR 351.213(d)(1). Accordingly, we are rescinding this administrative review for the period August 1, 2001, through July 31, 2002. The Department will issue appropriate assessment instructions to the U.S. Customs Service. This notice is published in accordance with sections 751(a)(2)(B) and 777(i) of the Act.

Dated: October 25, 2002.
Richard O. Weible,
Acting Deputy Assistant Secretary for Import Administration, Group III.

[FR Doc. 02-28010 Filed 11-1-02; 8:45 am]

BILLING CODE 3510-DS-P